DEPARTMENT OF STATE

[Public Notice 10758]

60 Day Notice of Proposed Information Collection: ECA Exchange Student Surveys

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 27, 2020.

ADDRESSES: You may submit comments by any of the following methods:

• Web: Persons with access to the internet may comment on this notice by going to www.Regulations.gov. You can search for the document by entering “Docket Number: DOS-2019-0011” in the Search field. Then click the “Comment Now” button and complete the comment form.

• Email: Parkes-Moscovatm@state.gov.

• Mail: 2200 C Street NW, Washington, DC 20037.

You must include the DS form number (if applicable), information collection title, and the OMB control number (if any) in any correspondence.

FOR FURTHER INFORMATION CONTACT: Direct requests for additional information regarding the collection listed in this notice, including requests for copies of the proposed collection instrument and supporting documents, to Tiffany Parkes-Moscova who may be reached on (202) 632-6359 or Parkes-Moscovatm@state.gov.

SUPPLEMENTARY INFORMATION: • Title of Information Collection: ECA Exchange Student Surveys.

• OMB Control Number: 1405-0210.

• Type of Request: Revision of a Currently Approved Collection.

• Originating Office: Educational and Cultural Affairs (ECA/PE/C/PY).

• Form Number: SV2012-0007 (Foreign Exchange students).

• Respondents: Exchange students from foreign countries participating in Department of State sponsored programs from 2020-2023.

• Estimated Number of Respondents: 1,500 annually.

• Estimated Number of Responses: 1,500 annually.

• Average Time per Response: 15 minutes.

• Total Estimated Burden Time: 375 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This collection of information is under the provisions of the Mutual Educational and Cultural Exchange Act, as amended, and the Exchange Visitor Program regulations (22 CFR part 62), as applicable. The information collected will be used by the Department to ascertain whether there are any issues that would affect the safety and well-being of exchange program participants.

Methodology

The survey will be sent electronically via the Survey Monkey tool and responses collected electronically. If a respondent requests a paper version of the survey it will be provided.

Robert Ogburn,
Director.

[FR Doc. 2019-25778 Filed 11-26-19; 8:45 am]

BILLING CODE 4710-05-P